COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and a service to the Procurement List that will be furnished by nonprofit agencies employing persons who are blind or have other severe disabilities, and deletes products and services previously furnished by such agencies.

DATES: Comments Must Be Received On or Before: 6/10/2013.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to Procurement List for production by the nonprofit agencies listed:

Products

NSN: 8970-00-NSH-0026—Meal Kit, Turkey, Detainees, DHS ICE

NSN: 8970-00-NSH-0027—Meal Kit, Roast Beef, Detainees, DHS ICE

NPA: The Arc of Cumberland and Perry Counties, Carlisle, PA

Contracting Activity: DEPT OF HOMELAND SECURITY, U.S. IMMIGRATION AND CUSTOMS ENFORCEMENT, COMPLIANCE AND REMOVALS, WASHINGTON, DC

Coverage: C-List for 100% of the requirement of the U.S. Immigration and Customs Enforcement, York, PA detainment facility, as aggregated by Compliance and Removals, U.S. Immigration and Customs Enforcement, Washington, DC.

Service

Service Type/Location: Custodial Service, Air National Guard Air Force Reserve Command Test Center (AATC), 1600 E. Super Sabre Drive, Bldg. 10, Tucson, AZ.

NPA: Beacon Group SW., Inc., Tucson, AZ

Contracting Activity: DEPT OF THE ARMY, W7MV USPFO ACTIVITY AZ ARNG, PHOENIX, AZ

Deletions

The following products and services are proposed for deletion from the Procurement List:

Products

Medium Weight Plastic Cutlery

NSN: 7340-00-NIB-0005

NSN: 7340-00-NIB-0006

NSN: 7340-00-NIB-0007

NSN: 7340-00-NIB-0008

NPA: L.C. Industries for the Blind, Inc., Durham, NC

Contracting Activity: DEPT OF THE ARMY, W40M NATL REGION CONTRACT OFC, FORT BELVOIR, VA

Emergency Administrative Kit

NSN: 7520-00-NIB-1738—50 Person

NPA: Associated Industries for the Blind, Milwaukee, WI

Contracting Activities: GSA/FAS CENTER OF INNOVATIVE ACQUISITION DEV, ARLINGTON, VA

FEDERAL EMERGENCY MANAGEMENT AGENCY (FEMA), NETC ACQUISITION SECTION, WASHINGTON, DC

NSN: 7045-01-484-1764—Mouse Pad w/Calculator

NPA: MidWest Enterprises for the Blind, Inc., Kalamazoo, MI

Contracting Activity: GENERAL SERVICES ADMINISTRATION, NEW YORK, NY

Clock, Wall, Battery

NSN: 6645-01-467-8475

NSN: 6645-01-467-8476

Clock, Atomic, Standard, Thermometer

NSN: 6645-01-491-9806

NSN: 6645-01-491-9816

NSN: 6645-01-491-9824

NSN: 6645-01-491-9827

NSN: 6645-01-491-9836

NSN: 6645-01-499-0892

NSN: 6645-01-499-0893

NSN: 6645-01-499-0894

NSN: 6645-01-499-0896

NSN: 6645-01-492-0900

Clock, Wall, Customized

NSN: 6645-01-456-5010

NSN: 6645-01-456-6035

Clock, Wall

NSN: 6645-01-421-6900

NSN: 6645-01-421-6909

Slimline Wall Clock

NSN: 6645-01-516-9631—12” Putty Case

NPA: The Chicago Lighthouse for People Who Are Blind or Visually Impaired, Chicago, IL

Contracting Activity: GENERAL SERVICES ADMINISTRATION, NEW YORK, NY

Services

Service Type/Location: Grounds Maintenance Service, Fort Sam Houston: Quarters and Common Areas, Fort Sam Houston, TX.

NPA: Goodwill Industries of San Antonio, San Antonio, TX

Contracting Activity: DEPT OF THE ARMY, W40M NATL REGION CONTRACT OFC, FORT BELVOIR, VA

Service Type/Location: Parts Sorting Service, Kelly Air Force Base: Defense Reutilization and Marketing Office, Kelly AFB, TX.

NPA: Goodwill Industries of San Antonio, San Antonio, TX

Contracting Activity: DEPT OF THE AIR FORCE, FA7014 AFDW A7KI, ANDREWS AFB, MD

Service Type/Location: Grounds Maintenance Service, Kelly Air Force Base: Military Family Housing, Kelly AFB, TX.

NPA: Goodwill Industries of San Antonio, San Antonio, TX

Contracting Activity: DEPT OF THE AIR FORCE, FA7014 AFDW A7KI, ANDREWS AFB, MD

Service Type/Location: Laundry Service, Fort Sam Houston/Fort Hood, TX.

NPA: Goodwill Industries of San Antonio, San Antonio, TX

Contracting Activity: DEPT OF THE ARMY, W40M NATL REGION CONTRACT OFC, FORT BELVOIR, VA

Service Type/Location: Recycling Service, Kelly Air Force Base: Basewide, Kelly AFB, TX.

NPA: Goodwill Industries of San Antonio, San Antonio, TX

Contracting Activity: DEPT OF THE AIR FORCE, FA7014 AFDW A7KI, ANDREWS AFB, MD

Service Type/Location: Linen Service, Fort Hood: Postwide, Fort Hood, TX.

NPA: Goodwill Industries of San Antonio, San Antonio, TX

Contracting Activity: DEPT OF THE ARMY, W40M NATL REGION CONTRACT OFC, FORT BELVOIR, VA

Service Type/Location: Grounds Maintenance Service, Kelly Air Force Base: Basewide (except Military Family Housing), Kelly AFB, TX.

NPA: Training, Rehabilitation, & Development Institute, Inc., San Antonio, TX

Contracting Activity: DEPT OF THE AIR FORCE, FA7014 AFDW A7KI, ANDREWS AFB, MD

Service Type/Location: Petroleum Support Service, Fort Sam Houston/Camp Bullis, TX.

NPA: Goodwill Industries of San Antonio, San Antonio, TX

Contracting Activity: DEPT OF THE ARMY, W40M NATL REGION CONTRACT OFC, FORT BELVOIR, VA

Service Type/Location: Operation of Postal Service Center/BITS Service, Brooks Air Force Base: Base Wide, Brooks AFB, TX.

NPA: Goodwill Industries of San Antonio, San Antonio, TX

Contracting Activity: DEPT OF THE AIR FORCE, FA7014 AFDW A7KI, ANDREWS AFB, MD

Barry S. Lineback,
Director, Business Operations.

[FR Doc. 2013-11156 Filed 5-9-13; 8:45 am]

BILLING CODE 6353-01-P